ENVIRONMENTAL PROTECTION AGENCY

[EPA-HQ-OAR-2021-0098; FRL-9894-01-OMS]

Information Collection Request Submitted to OMB for Review and Approval; Comment Request; NESHAP for the Surface Coating of Large Household and Commercial Appliances (Renewal)

AGENCY: Environmental Protection Agency (EPA).

ACTION: Notice.

SUMMARY: The Environmental Protection Agency (EPA) has submitted an information collection request (ICR), “NESHAP for the Surface Coating of Large Household and Commercial Appliances (EPA ICR Number 1954.10, OMB Control Number 2060-0457), to the Office of Management and Budget (OMB) for review and approval in accordance with the Paperwork Reduction Act. This is a proposed extension of the ICR, which is currently approved through May 31, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 27, 2022.

ADDRESSES: Submit your comments, referencing Docket ID Number EPA-HQ-OAR-2021-0098, to EPA online using https://www.regulations.gov/ (our preferred method), or by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit http://www.epa.gov/dockets.

Abstract: Owners and operators of large household and commercial appliance surface coating facilities are required to comply with reporting and record keeping requirements for the General Provisions (40 CFR part 63, subpart A), as well as for the applicable specific standards in 40 CFR part 63 subpart NNNN. This includes submitting initial notifications, performance tests and periodic reports and results, maintaining records of materials usage, and any period during which the add-on control system is inoperative. These reports are used by EPA to determine compliance with these standards.

Form Numbers: 5900-564.

Respondents/affected entities: Existing and new facilities that perform surface coating of large household and commercial appliances.

Respondent's obligation to respond: Mandatory (40 CFR part 63, subpart NNNN).

Estimated number of respondents: 10 (total).

Frequency of response: Initially, semiannually.

Total estimated burden: 4,380 hours (per year). Burden is defined at 5 CFR 1320.3(b).

Total estimated cost: $524,000 (per year), which includes $6,350 in annualized capital/startup and/or operation & maintenance costs.

Changes in the Estimates: There is an increase in burden from the most-recently approved ICR as currently identified in the OMB Inventory of Approved Burdens. This ICR incorporates the incremental burden from recent amendments to the rule as part of a Risk and Technology Review (RTR) in July 8, 2020 (85 FR 41100). The prior RTR amendments removed the excess emission and SSM reporting requirements, resulting in a small decrease in burden hours. The prior RTR amendments also adjusted an error in the previously approved ICR and corrected the burden hours to record and disclose information to two hours per week, which is reflected in this ICR as an increase in burden. The growth rate for this industry is non-existent, with no new respondents expected.

Courtney Kerwin,
Director, Regulatory Support Division.

[FR Doc. 2022-11386 Filed 5-25-22; 8:45 am]

BILLING CODE 6560-50-P